INTERNATIONAL TRADE COMMISSION

[Investigation No. U.S.-Korea FTA-103-031]

U.S.-Korea FTA: Advice on Modifications to Duty Rates for Certain Motor Vehicles

AGENCY: United States International Trade Commission.

ACTION: Institution of investigation and notice of opportunity to provide written comments.

SUMMARY: Following receipt on April 6, 2018, of a request from the U.S. Trade Representative (USTR), the Commission instituted investigation No. U.S.-Korea FTA-103-031, U.S.-Korea FTA: Advice on Modifications to Duty Rates for Certain Motor Vehicles, for the purpose of providing advice on the probable economic effect of modifications to the United States-Korea Free Trade Agreement regarding the staging of duty treatment for certain motor vehicles.

DATES: May 1, 2018: Deadline for filing written submissions.

June 1, 2018: Transmittal of Commission report to USTR.

ADDRESSES: All Commission offices, including the Commission's hearing rooms, are located in the United States International Trade Commission Building, 500 E Street SW, Washington, DC. All written submissions should be addressed to the Secretary, United States International Trade Commission, 500 E Street SW, Washington, DC 20436. The public record for this investigation may be viewed on the Commission's electronic docket (EDIS) at http://www.usitc.gov/secretary/edis.htm.

FOR FURTHER INFORMATION CONTACT: Project Leader Jeff Horowitz (202-205-2750 or jeffrey.horowitz@usitc.gov) or Deputy Project Leader Mitch Semanik (202-205-2034 or mitchell.semanik@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its internet server (http://www.usitc.gov). Persons with mobility impairments who will need special assistance in gaining access to the Commission should contact the Office of the Secretary at 202-205-2000.

Background: In his request letter (received April 6, 2018), the USTR stated that U.S. negotiators have recently reached an agreement in principle with representatives of the government of Korea on modifications to the FTA regarding the staging of duty treatment for certain motor vehicles. The USTR noted that section 201(b)(2) of the United States—Korea Free Trade Agreement Implementation Act (the Act) authorizes the President, subject to the consultation and layover requirements of section 104 of the Act, to proclaim such tariff modifications as the President determines to be necessary or appropriate to maintain the general level of reciprocal and mutually advantageous concessions with respect to Korea provided for by the FTA. He noted that one of the requirements set out in section 104 of the Act is that the President obtain advice regarding the proposed action from the U.S. International Trade Commission.

In the request letter, the USTR asked that the Commission provide advice on the probable economic effect of the modifications on U.S. trade under the FTA and on domestic producers of the affected articles. He asked that the Commission provide its advice at the earliest possible date but no later than eight weeks from receipt of the request. He also asked that the Commission issue, as soon as possible thereafter, a public version of its report with any confidential business information deleted.

The products identified in the proposal are motor vehicles for the transport of goods provided for in subheadings 8704.21.00, 8704.22.50, 8704.23.00, 8704.31.00, 8704.32.00, and 8704.90.00 of the U.S. Harmonized Tariff Schedule. The request letter and the proposed modification are available on the Commission's website at http://www.usitc.gov/research_and_analysis/what_we_are_working_on.htm. As requested, the Commission will provide its advice to USTR by June 1, 2018.

Written Submissions: No public hearing is planned. However, interested parties are invited to file written submissions. All written submissions should be addressed to the Secretary, and should be received no later than 5:15 p.m., May 1, 2018. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Office of the Secretary, Docket Services Division (202-205-1802).

Confidential Business Information: Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for those containing CBI, will be made available for inspection by interested parties.

The Commission may include some or all of the confidential business information submitted in the course of this investigation in the report it sends to the USTR. Additionally, all information, including CBI, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a manner that would reveal the operations of the firm supplying the information.

Summaries Of Written Submissions: The Commission intends to publish summaries of the positions of interested persons in an appendix to its report. Persons wishing to have a summary of their position included in the appendix should include a summary with their written submission. The summary may not exceed 500 words, should be in MSWord format or a format that can be easily converted to MSWord, and should not include any CBI. The summary will be included in the report as provided if it meets these requirements and is germane to the subject matter of the investigation. In the appendix, the Commission will identify the name of the organization furnishing the summary and will include a link to the Commission's Electronic Document Information System (EDIS) where the full written submission can be found.

By order of the Commission.
Issued: April 12, 2018.
Lisa Barton,
Secretary to the Commission.

[FR Doc. 2018-08015 Filed 4-16-18; 8:45 am]

BILLING CODE 7020-02-P